ENVIRONMENTAL PROTECTION AGENCY

[ER-FRL-6653-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 2, 2004 (69 FR 17403).

Draft EISs

ERP No. D-AFS-E65067-00 Rating LO, Land Between the Lakes National Recreation Area, Proposes to Revise TVA's 1994 Natural Resources Management Plan, to Develop an Land Management Resource Plan or Area Plan, Gold Pond, Trigg and Lyon Counties, KY and Stewart County, TN.

Summary: While EPA has no objection to the project, EPA did request clarification of forest-wide goals, objectives and standards that could improve water quality. ERP No. D-COE-E36183-FL Rating LO, Southern Golden Estates Ecosystem Restoration Project, Comprehensive Everglades Restoration Plan, Implementation, Collier County, FL.

Summary: While EPA had no objections to the proposed project, EPA did suggest that an interagency operations team be formed to focus on operational procedures that determine pumping requirements in relation to canal stages and existing/forecast weather conditions. ERP No. D-COE-H39012-MO Rating EC2, Howard Bend Floodplain Area Study, Improvements to Future Land, Future Road and Stormwater Management, U.S. Army COE Section 10 and 404 Permits, Missouri Flood Plain Developments, Cities of Maryland Heights and Chesterfield, St. Louis County, MO.

Summary: EPA expressed concerns related to cumulative impact analysis for flank levees for Fee Fee and Creve Coeur Creeks. ERP No. D-COE-K39084-AZ Rating EC2, Va Shly'ay Akimel Salt River Ecosystem Restoration Feasibility Study, Increasing and Improving Native Vegetation, in Portions of the Salt River Pima-Maricopa Indian Community (SRPMIC) and the City of Mesa, Maricopa County, AZ.

Summary: EPA expressed concern and requested additional information regarding environmental effects from the project's recreational facilities, impacts to water quality and local traffic, and cumulative impacts of the project. ERP No. D-FTA-K59003-CA Rating EC2, Capitol Expressway Corridor Project, Improve Public Transit Services, Santa Clara Valley Transportation Authority, City of San Jose, Santa Clara County, CA.

Summary: EPA expressed concerns and recommended additional information concerning impacts to air quality, energy resources, transportation, the elimination of alternatives, and the analysis of project facilities/ station options.

ERP No. D-NPS-E65068-00 Rating LO, Vicksburg Campaign Trail (VCT) Feasibility Study, To Examine and Evaluate a Number of Sites, Implementation, Mississippi River, AR, LA, TN and MS.

Summary: EPA has no objection to the preferred alternative. ERP No. D-NPS-J61105-CO Rating EC2, Colorado National Monument General Management Plan, Implementation, Mesa County, CO.

Summary: EPA has concerns about potential impacts to riparian areas, soil and water resources, and wildlife.

Final EISs

ERP No. F-AFS-L65421-WA, 49 Degrees North Mountain Resort Revised Master Development Plan, Implementation, Colville National Forest, Newport Ranger District, Stevens County, WA.

Summary: No formal comment letter was sent to the preparing agency.

ERP No. F-FRC-G02012-TX, Freeport Liquefied Natural Gas (LNG) Project, To Deliver Imported Liquefied Natural Gas to Shippers, Authorization of Site, Construction and Operation, Stratton Ridge Meter Station 2007, City of Freeport, Brazoria County, TX.

Summary: While EPA had no objection to the proposed action, EPA requested that the mitigation measures be made part of the Record of Decision.

ERP No. F-IBR-K64024-CA, Lower Santa Ynez River Fish Management Plan and Cachuma Project, Biological Opinion for Southern Steelhead Trout and Endangered Southern Steelhead Habitat Conditions Improvements, Santa Barbara County, CA.

Summary: EPA supports the restoration of fisheries habitat and therefore has no objection to this project as proposed.

ERP No. F-SFW-K39083-CA, South Bay Salt Ponds Initial Stewardship Plan, To Maintain and Enhance the Biological and Physical Conditions, South San Francisco Bay, CA.

Summary: The final EIS is responsive to most issues raised by EPA on the draft EIS. EPA recommends that the Record of Decision include a short explanation to clarify the elimination of several alternatives based on cost.

ERP No. F-SFW-K70013-CA, Multiple Habitat Conservation Program for Threatened and Endangered Species Due to the Urban Growth within the Planning Area, Adoption and Incidental Take Permits Issuance, San Diego County, CA.

Summary: EPA has no objections to the action as proposed.

ERP No. FS-AFS-G65062-NM, Agua/Caballos Timber Sale, Timber Harvest and Existing Vegetation Management, Implementation, Carson National Forest, EL Rito Ranger District, Taos County, NM.

Summary: No formal comment letter was sent to the preparing agency.

Dated: July 13, 2004.
Ken Mittelholtz,
Environmental Protection Specialist, Office of Federal Activities.

[FR Doc. 04-16211 Filed 7-15-04; 8:45 am]

BILLING CODE 6560-50-P